DEPARTMENT OF ENERGY

Federal Energy Regulatory Commission

Combined Notice of Filings #1

July 18, 2008.

Take notice that the Commission received the following electric corporate filings:

Docket Numbers: EC08-111-000.

Applicants: Franklin Resources, Inc.

Description: Request for Blanket Authorizations to Acquire Securities Under section 203(a)(2) of the Federal Power Act for Franklin Resources, Inc.

Filed Date: 07/16/2008.

Accession Number: 20080716-5009.

Comment Date: 5 p.m. Eastern Time on Wednesday, August 6, 2008.

Take notice that the Commission received the following exempt wholesale generator filings:

Docket Numbers: EG08-79-000.

Applicants: NaturEner Glacier Wind Energy 1, LLC.

Description: Self Certification Notice of Naturener Glacier Wind Energy 1, LLC.

Filed Date: 07/15/2008.

Accession Number: 20080715-5099.

Comment Date: 5 p.m. Eastern Time on Tuesday, August 5, 2008.

Docket Numbers: EG08-80-000.

Applicants: Naturener Montana Wind Energy, LLC.

Description: Self Certification Notice of Naturener Montana Wind Energy, LLC.

Filed Date: 07/15/2008.

Accession Number: 20080715-5100.

Comment Date: 5 p.m. Eastern Time on Tuesday, August 5, 2008.

Take notice that the Commission received the following electric rate filings:

Docket Numbers: ER01-2508-004.

Applicants: ENMAX Energy Marketing, Inc.

Description: ENMAX Energy Marketing, Inc. reports changes in status that reflect a departure from the facts relied upon in the grant of market-based rate authority.

Filed Date: 07/16/2008.

Accession Number: 20080718-0199.

Comment Date: 5 p.m. Eastern Time on Wednesday, August 6, 2008.

Docket Numbers: ER08-884-001; ER08-913-001.

Applicants: Midwest Independent Transmission System, Inc.; Independent Transmission System Operator.

Description: Midwest Independent Transmission System Operator, Inc. et al. submits proposed Appendix H of the Congestion Management Process of their Joint Operating Agreements in compliance with FERC's July 1 Order.

Filed Date: 07/16/2008.

Accession Number: 20080718-0196.

Comment Date: 5 p.m. Eastern Time on Wednesday, August 6, 2008.

Docket Numbers: ER07-59-004.

Applicants: Fortis Energy Marketing & Trading GP.

Description: Fortis Energy Marketing & Trading GP submits a supplement to its 6/17/08 filing to include an Appendix b (the Asset Matrix).

Filed Date: 07/03/2008.

Accession Number: 20080708-0006.

Comment Date: 5 p.m. Eastern Time on Thursday, July 24, 2008.

Docket Numbers: ER08-370-002.

Applicants: Midwest Independent Transmission System.

Description: Missouri River Energy Services requests that FERC approve its Attachment O Variance Filing and Petition for Declaratory Order.

Filed Date: 07/16/2008.

Accession Number: 20080718-0223.

Comment Date: 5 p.m. Eastern Time on Wednesday, August 6, 2008.

Docket Numbers: ER08-847-001.

Applicants: Union Electric Company.

Description: Entergy Arkansas, Inc. submits the revised Interchange Agreement between Union Electric Company and EAI, designated as EAI First Revised Rate Schedule 129 in conformance with Order 614.

Filed Date: 07/15/2008.

Accession Number: 20080715-0144.

Comment Date: 5 p.m. Eastern Time on Tuesday, August 5, 2008.

Docket Numbers: ER08-857-001.

Applicants: Southwestern Public Service Company.

Description: Southwestern Public Service Company submits SPS's proposed Electric Coordination Service Tariff under ER08-857.

Filed Date: 07/16/2008.

Accession Number: 20080718-0198.

Comment Date: 5 p.m. Eastern Time on Wednesday, August 6, 2008.

Docket Numbers: ER08-899-000; ER08-899-001.

Applicants: Ohio Power Company.

Description: Ohio Power Company withdraws the “Cost-Based Formula Rate Agreement for Full Requirements Electric Service”, dated 4/30/08 with Wheeling Power Company etc.

Filed Date: 07/15/2008.

Accession Number: 20080718-0181.

Comment Date: 5 p.m. Eastern Time on Tuesday, August 5, 2008.

Docket Numbers: ER08-933-002; ER08-934-003.

Applicants: Lempster Wind, LLC; Locust Ridge II, LLC.

Description: Lempster Wind, LLC et al. responds to FERC's additional information request.

Filed Date: 07/02/2008.

Accession Number: 20080707-0294.

Comment Date: 5 p.m. Eastern Time on Wednesday, July 23, 2008.

Docket Numbers: ER08-974-001.

Applicants: Baltimore Gas and Electric Company.

Description: Baltimore Gas and Electric Company submits response to deficiency letter under ER08-974.

Filed Date: 07/15/2008.

Accession Number: 20080717-0052.

Comment Date: 5 p.m. Eastern Time on Tuesday, August 5, 2008.

Docket Numbers: ER08-1230-001.

Applicants: Severstal Sparrows Point, LLC.

Description: Severstal Sparrows Point, LLC submits Notice of Succession under ER08-1230.

Filed Date: 07/15/2008.

Accession Number: 20080716-0152.

Comment Date: 5 p.m. Eastern Time on Tuesday, August 5, 2008.

Docket Numbers: ER08-1232-001.

Applicants: Sconza Candy Company.

Description: Sconza Candy Company submits a Petition for Acceptance of Initial Rate Schedule, Waivers and Blanket Authority, FERC Electric Tariff, Original Volume 1 under ER08-1232.

Filed Date: 07/11/2008.

Accession Number: 20080718-0192.

Comment Date: 5 p.m. Eastern Time on Friday, August 1, 2008.

Docket Numbers: ER08-1240-000.

Applicants: MH Partners LP.

Description: MH Partners LP submits the Petition for Acceptance of Initial Tariff, Waivers and Blanket Authority under ER08-1240.

Filed Date: 07/15/2008.

Accession Number: 20080717-0051.

Comment Date: 5 p.m. Eastern Time on Tuesday, August 5, 2008.

Docket Numbers: ER08-1260-000.

Applicants: Naturener Montana Wind Energy LLC.

Description: Naturener Montana Wind Energy, LLC submits Application for Market-Based Rate Authority, Request for Waivers and Pre-Approvals, Request for Finding of Qualification as Category 1 Seller, and Request for Shortened Comment etc. under ER08-1260.

Filed Date: 07/15/2008.

Accession Number: 20080716-0153.

Comment Date: 5 p.m. Eastern Time on Tuesday, August 5, 2008.

Docket Numbers: ER08-1261-000.

Applicants: Naturener Glacier Wind Energy 1, LLC.

Description: Naturener Montana Wind Energy, LLC submits Application for Market-Based Rate Authority, Request for Waivers and Pre-Approvals, Request for Finding of Qualification as Category 1 Seller, and Request for Shortened Comment etc. under ER08-1261.

Filed Date: 07/15/2008.

Accession Number: 20080716-0154.

Comment Date: 5 p.m. Eastern Time on Tuesday, August 5, 2008.

Docket Numbers: ER08-1262-000.

Applicants: Ameren Energy Generating Company.

Description: Ameren Energy Generating Company et al. submits revised versions of their marjet-based rate tariff to allow AEG and AEM to sell ancillary services, including sales into ancillary services markets administered etc. under ER08-1262 et al.

Filed Date: 07/11/2008.

Accession Number: 20080715-0151.

Comment Date: 5 p.m. Eastern Time on Friday, August 1, 2008.

Docket Numbers: ER08-1263-000.

Applicants: Ameren Energy Marketing Company.

Description: Ameren Energy Generating Company et al. submits revised versions of their marjet-based rate tariff to allow AEG and AEM to sell ancillary services, including sales into ancillary services markets administered etc. under ER08-1262 et al.

Filed Date: 07/11/2008.

Accession Number: 20080715-0151.

Comment Date: 5 p.m. Eastern Time on Friday, August 1, 2008.

Docket Numbers: ER08-1268-000; ER00-2687-009.

Applicants: Union Electric Company.

Description: Union Electric Co submits a revised version of its market based rate tariff to allow them to sell ancillary services etc. under ER00-2687 et al.

Filed Date: 07/11/2008.

Accession Number: 20080716-0003.

Comment Date: 5 p.m. Eastern Time on Friday, August 1, 2008.

Docket Numbers: ER08-1269-000.

Applicants: Allegheny Energy Supply Company, LLC.

Description: Allegheny Energy Supply Company, LLC submits notices of cancellation and notices of termination of Original Service Agreement 2 et al. pursuant to Order 614 under ER08-1269.

Filed Date: 07/15/2008.

Accession Number: 20080715-0146.

Comment Date: 5 p.m. Eastern Time on Tuesday, August 5, 2008.

Docket Numbers: ER08-1270-000; ER04-53-008.

Applicants: AmerenEnergy Resources Generating Co.

Description: AmerenEnergy Resources Generating Company submits a revised version of its market based rate tariff to allow them to sell ancillary services into ancillary service markets under ER04-53 et al.

Filed Date: 07/11/2008.

Accession Number: 20080716-0002.

Comment Date: 5 p.m. Eastern Time on Friday, August 1, 2008.

Docket Numbers: ER08-1271-000; ER04-8-006.

Applicants: AmerenEnergy Medina Valley Cogen, LLC.

Description: AmerenEnergy Medina Valley Cogen, LLC submits revised version of its market-based rate tariff to allow AEMVC to sell ancillary services, including sales into ancillary services markets administered etc under ER08-1271 et al.

Filed Date: 07/11/2008.

Accession Number: 20080716-0001.

Comment Date: 5 p.m. Eastern Time on Friday, August 1, 2008.

Docket Numbers: ER08-1272-000.

Applicants: New York Independent System Operator, Inc.

Description: New York Independent System Operator, Inc submits revised tariff sheets for Attachments S and X of its Open Access Transmission Tariff to revise the NYISO's Large interconnection provisions under ER08-1272.

Filed Date: 07/15/2008.

Accession Number: 20080716-0151.

Comment Date: 5 p.m. Eastern Time on Tuesday, August 5, 2008.

Docket Numbers: ER08-1273-000.

Applicants: The Midwest Independent Transmission Sys.

Description: Midwest Independent Transmission System Operator, Inc. submits a facilities Construction Agreement among Benton County Wind Farm, LLC etc.

Filed Date: 07/15/2008.

Accession Number: 20080716-0150.

Comment Date: 5 p.m. Eastern Time on Tuesday, August 5, 2008.

Docket Numbers: ER08-1275-000.

Applicants: E. ON U.S. LLC.

Description: E.ON U.S., LLC on behalf of Louisville Gas and Electric Company et al submits an unexecuted Network Integration Transmission Service Agreement etc. with Tennessee Valley Authority.

Filed Date: 07/16/2008.

Accession Number: 20080718-0194.

Comment Date: 5 p.m. Eastern Time on Wednesday, August 6, 2008.

Take notice that the Commission received the following open access transmission tariff filings:

Docket Numbers: OA08-120-000.

Applicants: Alcoa Power Generating Inc.

Description: Alcoa Power Generating, Inc.-Yadkin Division submits Fourth Revised Sheet 19 and Original Sheet 19.01 containing Section 2.2 of its Open Access Transmission Tariff to reflect the new pro forma provision etc under OA08-120.

Filed Date: 07/15/2008.

Accession Number: 20080717-0050.

Comment Date: 5 p.m. Eastern Time on Tuesday, August 05, 2008.

Take notice that the Commission received the following public utility holding company filings:

Docket Numbers: PH08-32-000.

Applicants: CHx Capital Missouri Inc.

Description: CHx Capital Missouri Inc. submits Form FERC-65A Exemption Notification notifying that it is exempt from the requirements of Sections 366.2 et al. under PH08-32.

Filed Date: 07/15/2008.

Accession Number: 20080716-0149.

Comment Date: 5 p.m. Eastern Time on Tuesday, August 5, 2008.

Any person desiring to intervene or to protest in any of the above proceedings must file in accordance with Rules 211 and 214 of the Commission's Rules of Practice and Procedure (18 CFR 385.211 and § 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. E8-17195 Filed 7-25-08; 8:45 am]

BILLING CODE 6717-01-P